DEPARTMENT OF THE INTERIOR

Office of the Secretary

Establishment of the Battle of Midway National Memorial Planning Committee

AGENCY: Office of the Secretary, Interior.

ACTION: Notice of establishment.

SUMMARY: We are publishing this notice in accordance with section 9a of the Federal Advisory Committee Act (Public Law 92-463). Following consultation with the General Services Administration, the Secretary of the Interior hereby establishes the Battle of Midway National Memorial Advisory Committee. The Committee will develop a strategy for a public dedication of the memorial, identify and plan for appropriate exhibits to commemorate this important event, and offer recommendations on improving visitor services on Midway Atoll National Wildlife Refuge.

DATES: On January 22, 2002, we will file a copy of the charter with the Committee on Environment and Public Works, United States Senate; Committee on Resources, House of Representatives; General Services Administration; and Library of Congress.

ADDRESSES: You may submit comments to Barbara Maxfield, Fish and Wildlife Service, P.O. Box 50617, Honolulu, Hawaii, 96850-5167, phone number (808) 541-1201.

FOR FURTHER INFORMATION CONTACT: Barbara Maxfield, U.S. Fish and Wildlife Service, (808) 541-1201.

SUPPLEMENTARY INFORMATION: The Committee will provide advice to the Secretary of the Interior through the Director, Fish and Wildlife Service on the management of the Battle of Midway National Memorial. The FY 2000 Interior Appropriations bill directed us to designate the Battle of Midway National Memorial on the Midway Atoll National Wildlife Refuge to commemorate the pivotal World War II Battle of Midway. The appropriations language also directed that we consult on a regular basis with other agencies and organizations on the management of the national memorial.

The Committee will be comprised of representatives from the Fish and Wildlife Service, National Park Service, Naval Historical Center, International Midway Memorial Foundation, Inc., Midway-Phoenix Corporation, Sixth Defense Battalion, the National Wildlife Refuge Association, Friends of Midway Atoll National Wildlife Refuge, National Trust for Historic Preservation, and a member of the Battle of Midway veterans' community. These agencies, organizations, and the veteran have demonstrated an interest and expertise in commemorating and preserving historical features associated with the Battle of Midway and reflect a balanced, cross-sectional representation of public and private sector organizations.

The Committee will function solely as an advisory body and in compliance with provisions of the Federal Advisory Committee Act.

The Certification for establishment of the committee is published below.

Certification

I hereby certify that the Battle of Midway National Memorial Planning Committee is necessary and in the public interest in connection with the performance of duties imposed on the Department of the Interior by the Consolidated Appropriations Act for FY 2000, the National Historic Preservation Act of 1966, as amended, and the National Wildlife Refuge System Improvement Act of 1997. The Committee will assist the Fish and Wildlife Service by providing advice and developing recommendations for the long-term management and interpretation of the Battle of Midway National Memorial.

Dated: October 11, 2001.
Gale A. Norton,
Secretary of the Interior.

[FR Doc. 02-293 Filed 1-4-02; 8:45 am]

BILLING CODE 4310-55-P